DEPARTMENT OF VETERANS AFFAIRS

Privacy Act of 1974; System of Records

AGENCY: Veterans Health Administration (VHA), Department of Veterans Affairs (VA).

ACTION: Notice of a modified system of records.

SUMMARY: Pursuant to the Privacy Act of 1974, notice is hereby given that the VA is modifying the system of records entitled, “National Patient Databases-VA” (121VA10A7). VA provides health care services to many of America's Veterans through the VHA. However, the care of America's Veterans extends beyond VHA and into community providers. During the course of providing health care, VHA collects medical and health information about Veterans under their care. Similarly, outside of VHA, community providers also collect medical and health information about Veterans under their care. This SORN requires modification to ensure the appropriate sharing of Veterans' medical or health information for disease management and population-based activities for improving health outcomes.

DATES: Comments on this modified system of records must be received no later than 30 days after date of publication in the Federal Register. If no public comment is received during the period allowed for comment or unless otherwise published in the Federal Register by VA, the modified system of records will become effective a minimum of 30 days after date of publication in the Federal Register. If VA receives public comments, VA shall review the comments to determine whether any changes to the notice are necessary.

ADDRESSES: Comments may be submitted through www.regulations.gov or mailed to VA Privacy Service, 810 Vermont Avenue NW, (005R1A), Washington, DC 20420. Comments should indicate that they are submitted in response to “National Patient Databases-VA”, (121VA10A7). Comments received will be available at regulations.gov for public viewing, inspection or copies.

FOR FURTHER INFORMATION CONTACT: Stephania Griffin, VHA Chief Privacy Officer, Department of Veterans Affairs, 810 Vermont Avenue NW, Washington, DC 20420; telephone (704) 245-2492 (Note: This is not a toll-free number).

SUPPLEMENTARY INFORMATION: VA is modifying the system of records by revising the System Number; System Location; System Manager; Purpose of the System; Categories of Individuals Covered by this System; Categories of Records in the System; Records Source Categories; Routine Uses of Records Maintained in the System; Policies and Practices for Storage of Records; Policies and Practices for Retention and Disposal of Records; Administrative, Technical and Physical Safeguards; and Appendix 4.

The System Number will be changed from 121VA10A7 to 121VA10 to reflect the current VHA organizational routing symbol.

The System Location will be updated to include: information from these records or copies of these records may be maintained at VA Enterprise Cloud Data Centers/Amazon Web Services, 1915 Terry Avenue, Seattle, WA 98101.

The System Manager is being updated to replace “Assistant Deputy Under Secretary for Informatics and Information Governance (10P2)”, with, “Chief Officer for Health Informatics (105).”

The Purpose of the System is being modified to include: “to monitor the performance outside the VA as relevant; and to study, monitor and report epidemiological trends and disease incidence.” It is also being modified to include: “The Public Health National Program Office System data will be available to VA personnel, Federal agencies and State/Local Health Departments for the monitoring of infections, emerging pathogens, and environmental issues of interest that might reasonably affect the health of the public.” This section will remove: “National Center for Patient Safety Public Health System data will be available to VHA clinicians to use for the monitoring of health care-associated infections and for the transmittal of data to state/local health departments for bio surveillance purposes.”

Categories of Individuals Covered by this System is being updated, number (2) is being updated to reflect the following: “Providing health care to individuals for VHA.” Section (3) is also being added and will state: “Whose data is provided to VA clinical registries, including but not limited to the VA Central Cancer Registry.”

The Categories of Records in the System is being updated to replace 24VA10P2 with 24VA10A7.

The Records Source Categories is being updated to replace “VA Austin Automation Center” with “Austin Information Technology Center”; 33VA113 with 33VA10; and “Healthcare Eligibility Records-VA” (89VA10NB) with “Income Verification Records-VA” (89VA10)”. “Veterans and Beneficiaries Identification and Records Location Subsystem-VA” (38VA23) is being removed from this section since this SORN was rescinded and is now encompassed in “Compensation, Pension, Education, and Vocational Rehabilitation and Employment Records-VA” (58VA21/22/28). This section will also include the National Cancer Institute (NCI) and/or their designee, and a state cancer or tumor registry.

The language in Routine Use #28 is being updated. It previously reflected the following language, “VA may disclose relevant health care information to the CDC and/or their designee in response to its request or at the initiation of VA, in connection with disease-tracking, patient outcomes, bio-surveillance, or other health information required for program accountability.”

Routine Use #28 will now read as follows, “To the Centers for Disease Control and Prevention (CDC) and/or their designee, or other Federal and state public health authorities in response to its request or at the initiation of VA, in connection with disease-tracking, patient outcomes, bio-surveillance or other health information required for program accountability.”

Routine Use #31 is being added to state, “To the NCI and/or their designee, and/or a state cancer or tumor registry in response to its request or at the initiation of VA for the purpose of population-based activities to improve health and disease management. VA needs the ability to determine trends in the rates of the incidence of cancer in Veterans.”

Policies and Practices for Storage of Records is being updated to include “VA Enterprise Cloud.”

Policies and Practices for Retention and Disposal of Records is being updated to remove General Records Schedule 20, item 4. Item 4 provides for deletion of data files when the agency determines that the files are no longer needed for administrative, legal, audit or other operational purposes. This section will now reflect the following, Records in this system are retained and disposed of in accordance with the schedule approved by the Archivist of the United States, General Records Schedule, 5.2, item 020.”

Administrative, Technical and Physical Safeguards is being updated to include #6, “VA Enterprise Cloud data storage conforms to security protocols as stipulated in VA Directives 6500 and 6517. Access control standards are stipulated in specific agreements with cloud vendors to restrict and monitor access.”

Appendix 4 is being updated to replace “Master Veteran Index” with “Master Person Index-VHA.” The address for the VA Clinical Assessment Reporting and Tracking Program is being updated to replace “Denver VA Medical Center, 1055 Clermont Street, Denver, CO 80220” with “Digital Realty 350 E Cermak Road, Main Building 7th Transport RM, Chicago, IL 60616, and Evoque Data Centers, 11830 Webb Chapel Road, Suite 200, Dallas, TX 75234”.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on March 6, 2023 for publication.

Dated: April 7, 2023.
Amy L. Rose,
Program Analyst, VA Privacy Service, Office of Information Security, Office of Information and Technology, Department of Veterans Affairs.

SYSTEM NAME AND NUMBER:

“National Patient Databases-VA” (121VA10).

SECURITY CLASSIFICATION:

Unclassified.

SYSTEM LOCATION:

Records are maintained at the Department of Veterans Affairs (VA) medical centers, VA data processing centers, Veterans Integrated Service Networks (VISN) and Office of Information Technology Field Offices. The address for each VA national patient database is listed in VA Appendix 4 at the end of this document. In addition, information from these records or copies of these records may be maintained at VA Enterprise Cloud Data Centers/Amazon Web Services, 1915 Terry Avenue, Seattle, WA 98101.

SYSTEM MANAGER(S):

Officials responsible for policies and procedures: Chief Officer for Health Informatics, Department of Veterans Affairs, 810 Vermont Avenue NW, (105), Washington, DC 20420. Officials maintaining this system of records: Director, National Data Systems, Austin Information Technology Center, 1615 Woodward Street, Austin, Texas 78772. Telephone number 512-326-6780 (this is not a toll-free number).

AUTHORITY FOR MAINTENANCE OF THE SYSTEM:

38 U.S.C 501.

PURPOSE(S) OF THE SYSTEM:

The records and information may be used for statistical analysis to produce various management, workload tracking and follow-up reports; to track and evaluate the ordering and delivery of equipment, services and patient care; for the planning, distribution and utilization of resources; to monitor the performance of VISNs and/or outside the VA as relevant; to allocate clinical and administrative support to patient medical care; and to study, monitor and report epidemiological trends and disease incidence; for VA's extensive research programs in accordance with VA policy; to assist in workload allocation for patient treatment services including provider panel management, nursing care, clinic appointments, surgery, prescription processing, diagnostic and therapeutic procedures; to plan and schedule training activities for employees; for audits, reviews and investigations conducted by the network directors office and VA Central Office; for quality assurance audits, reviews and investigations; for law enforcement investigations; and for personnel management, evaluation and employee ratings, and performance evaluations. Pursuant to Executive Order 12862 and VHA Customer Service Standards Directive, survey data in this system will used to measure and monitor national, VISN and facility-level performance on the Veterans Health Administration (VHA) Veteran Health Care Service Standards (VHSS). The VHSS are designed to measure levels of patient satisfaction in areas that patients have defined as important in receiving quality, patient-centered health care. Results of the survey data analysis are shared throughout the VHA system. External Peer Review Program (EPRP) data in this system will be used to provide medical centers and outpatient clinics with diagnosis and procedure-specific quality of care information. EPRP is a contracted review of care, specifically designated to collect data to be used to improve the quality of care. The Veteran Homeless records and information will be used for case management in addition to statistical analysis to produce various management, workload tracking and follow-up reports; to track and evaluate the goal of ending Veteran homelessness. The Public Health National Program Office System data will be available to VA personnel, Federal agencies and State/Local Health Departments for the monitoring of infections, emerging pathogens, and environmental issues of interest that might reasonably affect the health of the public.

CATEGORIES OF INDIVIDUALS COVERED BY THE SYSTEM:

These records include information for all individuals that are; (1) Receiving health care from VHA; (2) Providing health care to individuals for VHA; or (3) Whose data is provided to VA clinical registries, including but not limited to the VA Central Cancer Registry. Individuals encompass veterans and their immediate family members; members of the Armed Services; current and former employees, trainees, contractors, subcontractors, consultants, volunteers; and other individuals working collaboratively with VA.

CATEGORIES OF RECORDS IN THE SYSTEM:

These records include information and health information related to; (1) Patient medical record abstract information including, but not limited to, information from “Patient Medical Record-VA” (24VA10A7); (2) Identifying information (e.g., name, birth date, death date, admission date, discharge date, gender, Social Security Number or taxpayer identification number); address information (e.g., home and/or mailing address, home telephone number, emergency contact information such as name, address, telephone number and relationship); prosthetic and sensory aid serial numbers; medical record numbers; integration control numbers; information related to medical examination or treatment (e.g., location of VA medical facility providing examination or treatment, treatment dates or medical conditions treated or noted on examination); information related to military service and status; (3) Medical benefit and eligibility information; (4) Patient workload data such as admissions, discharges and outpatient visits; resource utilization such as laboratory tests and x-rays; (5) Patient Satisfaction Survey Data which include questions and responses; (6) EPRP data capture; (7) Online Data Collection system supported by Northeast Program Evaluation Center and VHA Support Service Center to include electronic information from all Veteran homeless programs and external sources; and (8) Clinically oriented information associated with My HealtheVet such as secure messages.

RECORD SOURCE CATEGORIES:

Information in this system of records may be provided by veterans; VA employees; VA computer systems; Veterans Health Information Systems and Technology Architecture; VA medical centers; VA Health Eligibility Center; VA program offices; VISNs; Austin Information Technology Center; the Food and Drug Administration (FDA); Department of Defense; Department of Housing and Urban Development (HUD); Survey of Healthcare Experiences of Patients; EPRP; National Cancer Institute (NCI) and/or their designee; a state cancer or tumor registry; “Patient Medical Records-VA” (24VA10A7); “National Prosthetics Patient Database-VA” (33VA10); “Income Verification Records-VA” (89VA10); VA Veterans Benefits Administration automated record systems (including the “Compensation, Pension, Education, and Vocational Rehabilitation and Employment Records-VA” (58VA21/22/28)); and subsequent iterations of those systems of records.

ROUTINE USES OF RECORDS MAINTAINED IN THE SYSTEM, INCLUDING CATEGORIES OF USERS AND THE PURPOSES OF SUCH USES:

To the extent that records contained in the system include information protected by 45 CFR parts 160 and 164, i.e., individually identifiable health information of VHA or any of its business associates, and 38 U.S.C. 7332; i.e., medical treatment information related to drug abuse, alcoholism or alcohol abuse, sickle cell anemia, or infection with the human immunodeficiency virus, that information cannot be disclosed under a routine use unless there is also specific statutory authority in both 38 U.S.C. 7332 and 45 CFR parts 160, 161, and 164.

1. To a Federal, state, local, territorial, tribal or foreign law enforcement authority or other appropriate entity charged with the responsibility of investigating or prosecuting such violation or charged with enforcing or implementing such law, provided that the disclosure is limited to information that, either alone or in conjunction with other information, indicates a violation or potential violation of law, whether civil, criminal or regulatory in nature. The disclosure of the names and addresses of Veterans and their dependents from VA records under this routine use must also comply with the provisions of 38 U.S.C. 5701.

2. To any source from which additional information is requested (to the extent necessary to identify the individual, inform the source of the purpose(s) of the request and identify the type of information requested), when necessary to obtain or provide information relevant to an individual's eligibility, care history or other benefits across different Federal, state or local, public health, health care or program benefit agencies that improves the quality and safety of health care for our Veterans.

3. To a Federal agency in the executive, legislative or judicial branch, state and local Government or the District of Columbia Government in response to its request or at the initiation of VA, in connection with disease tracking, patient outcomes or other health information required for program accountability.

4. To the National Archives and Records Administration (NARA) in records management inspections conducted under 44 U.S.C. 2904 and 2906, or other functions authorized by laws and policies governing NARA operations and VA records management responsibilities.

5. To the Department of Justice (DoJ), or in a proceeding before a court, adjudicative body or other administrative body before which VA is authorized to appear, when:

(a) VA or any component thereof;

(b) Any VA employee in their official capacity;

(c) Any VA employee in their individual capacity where DoJ has agreed to represent the employee; or

(d) The United States, where VA determines that litigation is likely to affect the agency or any of its components,

is a party to such proceedings or has an interest in such proceedings, and VA determines that the use of such records is relevant and necessary to the proceedings.

6. To a Federal agency, a state or local government licensing board, the Federation of State Medical Boards or a similar non-governmental entity that maintains records concerning individuals' employment histories or concerning the issuance, retention or revocation of licenses, certifications or registration necessary to practice an occupation, profession or specialty. This information can be used to inform such non-governmental entities about the health care practices of a terminated, resigned or retired health care employee whose professional health care activity so significantly failed to conform to generally accepted standards of professional medical practice as to raise reasonable concern for the health and safety of patients in the private sector or from another Federal Agency. These records may also be disclosed as part of an ongoing computer matching program to accomplish these purposes.

7. To a former VA employee or contractor, as well as the authorized representative of a current or former employee or contractor of VA, in connection with or in consideration of reporting that the individual's professional health care activity so significantly failed to conform to generally accepted standards of professional medical practice as to raise reasonable concern for the health and safety of patients, to a Federal agency, a state or local government licensing board, or the Federation of State Medical Boards or a similar nongovernmental entity that maintains records concerning individuals' employment histories or concerning the issuance, retention or revocation of licenses, certifications, or registration necessary to practice an occupation, profession or specialty.

8. To survey teams of The Joint Commission (TJC, College of American Pathologists, American Association of Blood Banks, and similar national accreditation agencies or boards with which VA has a contract or agreement to conduct such reviews, as relevant and necessary for the purpose of program review or the seeking of accreditation or certification.

9. To a national certifying body that has the authority to make decisions concerning the issuance, retention or revocation of licenses, certifications or registrations required to practice a health care profession, when requested in writing by an investigator or supervisory official of the national certifying body for the purpose of making a decision concerning the issuance, retention or revocation of the license, certification or registration of a named health care professional.

10. To officials of labor organizations recognized under 5 U.S.C. Chapter 71 provided that the disclosure is limited to information identified in 5 U.S.C. 7114(b)(4) that is relevant and necessary to their duties of exclusive representation concerning personnel policies, practices and matters affecting working conditions.

11. To the representative of an employee of all notices, determinations, decisions or other written communications issued to the employee in connection with an examination ordered by VA under medical evaluation (formerly fitness-for duty) examination procedures or Department-filed disability retirement procedures.

12. To the Merit Systems Protection Board (MSPB) in connection with appeals, special studies of the civil service and other merit systems, review of rules and regulations, investigation of alleged or possible prohibited personnel practices, and such other functions promulgated in 5 U.S.C. 1205 and 1206, or as authorized by law.

13. To the Equal Employment Opportunity Commission (EEOC) in connection with investigations of alleged or possible discriminatory practices, examination of Federal affirmative employment programs or other functions of the Commission as authorized by law.

14. To the Federal Labor Relations Authority (FLRA) in connection with the investigation and resolution of allegations of unfair labor practices, the resolution of exceptions to arbitration awards when a question of material fact is raised, matters before the Federal Service Impasses Panel, and the investigation of representation petitions and the conduct or supervision of representation elections.

15. To non-Federal research facilities for research purposes determined to be necessary and proper when approved in accordance with VA policy; disclosure of medical record data, excluding name and address, unless name and address are furnished by the requester.

16. To: (a) A Federal department or agency, at the written request of the head or designee of that agency or (b) directly to a contractor or subcontractor of a Federal department or agency, for the purpose of conducting Federal research necessary to accomplish a statutory purpose of an agency, provided that the disclosure is limited to the names and addresses of present or former members of the armed services or their beneficiaries, the records will not be used for any purpose other than that stated in the request, and the organization is aware of the penalty provision of 38 U.S.C. 5701(f). When disclosure of this information is made directly to a contractor, VA may impose applicable conditions on the department, agency and/or contractor to insure the appropriateness of the disclosure to the contractor.

17. To contractors, grantees, experts, consultants, students and others performing or working on a contract, service, grant, cooperative agreement or other assignment for VA, when reasonably necessary to accomplish an agency function related to the records.

18. To a Member of Congress or staff acting upon the Member's behalf when the Member or staff requests the information on behalf of, and at the request of, the individual who is the subject of the record.

19. To a Federal agency for research and data analysis to perform a statutory purpose of that Federal agency upon the prior written request of that agency, provided that there is legal authority under all applicable confidentiality statutes and regulations to provide the data and the VHA Office of Informatics has determined prior to the disclosure that VHA data handling requirements are satisfied.

20. To another Federal agency for the purpose of matching and acquiring information held by that agency for VHA for the purposes stated for this system of records, provided that disclosure is of limited individual identification information.

21. To appropriate agencies, entities and persons when (1) VA suspects or has confirmed that there has been a breach of the system of records; (2) VA has determined that as a result of the suspected or confirmed breach there is a risk to individuals, VA (including its information systems, programs and operations), the Federal Government or national security; and (3) the disclosure made to such agencies, entities or persons reasonably necessary to assist in connection with VA efforts to respond to the suspected or confirmed breach or to prevent, minimize or remedy such harm.

22. To the general public, on its own initiative, via an internet website, Primary Care Management Module information, including the names of its providers, provider panel sizes and reports on provider performance measures of quality when approved in accordance with VA policy.

23. To other Federal agencies to assist such agencies in preventing and detecting possible fraud or abuse by individuals in their operations and programs.

24. To a nonprofit organization if the release is directly connected with the conduct of programs and the utilization of benefits under title 38, provided that the disclosure is limited to the names and addresses of present or former members of the armed services or their beneficiaries, the records will not be used for any purpose other than that stated in the request, and the organization is aware of the penalty provision of 38 U.S.C. 5701(f).

25. To HUD, including demographic information, for the purpose of reducing homelessness among Veterans by implementing the Federal strategic plan to prevent and end homelessness and by evaluating and monitoring the HUD-Veterans Affairs Supported Housing program.

26. To the FDA, Department of Health and Human Services concerning an adverse drug reaction of a patient, for the purpose of quality of care management, including detection, treatment, monitoring, reporting, analysis and follow-up actions relating to adverse drug reactions.

27. To an organization with whom VA has a documented partnership, arrangement or agreement (e.g., Health Information Exchange, Healthcare internet Service Provider, Direct and CommonWell Health Alliance Network), for the purpose of identifying and correlating patients. This information may include Veteran identifiers and demographic information (e.g., name, SSN, address, date of birth).

28. To Center for Disease Control and Prevention (CDC) and/or their designee or other Federal or state public health authorities in response to its request or at the initiation of VA, in connection with disease-tracking, patient outcomes, bio-surveillance or other health information required for program accountability.

29. To another Federal agency or Federal entity, when VA determines that information from this system of records is reasonably necessary to assist the recipient agency or entity in (1) responding to a suspected or confirmed breach or (2) preventing, minimizing or remedying the risk of harm to individuals, the recipient agency or entity (including its information systems, programs and operations), the Federal Government or national security, resulting from a suspected or confirmed breach.

30. To health and welfare agencies, housing resources and community providers, consistent with good medical-ethical practices, for Veterans assessed by or engaged in VA homeless programs for purposes of coordinating care, expediting access to housing, providing medical and related services, participating in coordinated entry processes, reducing Veteran homelessness, identifying homeless individuals in need of immediate assistance and ensuring program accountability by assigning and tracking responsibility for urgently required care.

31. To the NCI and/or their designee and/or a state cancer or tumor registry in response to its request or at the initiation of VA for the purpose of population-based activities to improve health and disease management.

POLICIES AND PRACTICES FOR STORAGE OF RECORDS:

Records are maintained on electronic storage media including magnetic tape, disk, laser optical media and the VA Enterprise Cloud.

POLICIES AND PRACTICES FOR RETRIEVAL OF RECORDS:

Records are retrieved by name, Social Security Number or other assigned identifiers of the individuals on whom they are maintained.

POLICIES AND PRACTICES FOR RETENTION AND DISPOSAL OF RECORDS:

Records in this system are retained and disposed of in accordance with the schedule approved by the Archivist of the United States, General Records Schedule, 5.2, item 020.

ADMINISTRATIVE, TECHNICAL AND PHYSICAL SAFEGUARDS:

1. Access to and use of national patient databases are limited to those persons whose official duties require such access, and VA has established security procedures to ensure that access is appropriately limited. Information security officers and system data stewards review and authorize data access requests. VA regulates data access with security software that authenticates users and requires individually unique codes and passwords. VA provides information security training to all staff and instructs staff on the responsibility each person has for safeguarding data confidentiality.

2. VA maintains Business Associate Agreements and Non-Disclosure Agreements with contracted resources in order to maintain the confidentiality of the information.

3. Physical access to computer rooms housing national patient databases are restricted to authorized staff and protected by a variety of security devices. Unauthorized employees, contractors and other staff are not allowed in computer rooms. The Federal Protective Service or other security personnel provide physical security for the buildings housing computer rooms and data centers.

4. Data transmissions between operational systems and national patient databases maintained by this system of record are protected by state-of-the-art telecommunication software and hardware. This may include firewalls, encryption and other security measures necessary to safeguard data as it travels across the VA Wide Area Network. Data may be transmitted via a password protected spreadsheet and placed on the secured SharePoint Web portal by the user that has been provided access to their secure file. Data can only be accessed by authorized personnel from each facility within the Polytrauma System of Care and the Physical Medicine and Rehabilitation Program Office.

5. In most cases, copies of backup computer files are maintained at off-site locations.

6. VA Enterprise Cloud data storage conforms to security protocols as stipulated in VA Directives 6500 and 6517. Access control standards are stipulated in specific agreements with cloud vendors to restrict and monitor access.

RECORD ACCESS PROCEDURES:

Individuals seeking information on the existence and content of records in this system pertaining to them should contact the system manager in writing as indicated above or write or visit the VA facility location where they normally receive their care. A request for access to records must contain the requester's full name, address and telephone number, be signed by the requester and describe the records sought in sufficient detail to enable VA personnel to locate them with a reasonable amount of effort.

CONTESTING RECORD PROCEDURES:

Individuals seeking to contest or amend records in this system pertaining to them should contact the system manager in writing as indicated above. A request to contest or amend records must state clearly and concisely what record is being contested, the reasons for contesting it, and the proposed amendment to the record.

NOTIFICATION PROCEDURES:

Generalized notice is provided by the publication of this notice. For specific notice, see Record Access Procedure, above.

EXEMPTIONS PROMULGATED FOR THE SYSTEM:

None.

HISTORY:

69 FR 18436 (April 7, 2004); 73 FR 16103 (March 26, 2008); 75 FR 72873 (November 26, 2010); 77 FR 27863 (May 11, 2012); 79 FR 8245 (February 11, 2014); 83 FR 6094 (February 12, 2018).

VA Appendix 4

Database name | Location
Addiction Severity Index (ASI) | Veterans Affairs Medical Center, 7180 Highland Drive, Pittsburgh, PA 15206.
Bidirectional Health Information Exchange (BHIE) | SunGard, 1500 Spring Garden Street, Philadelphia, PA 19130.
Breast Care Registry | Austin Information Technology Center, 1615 Woodward Street, Austin, TX 78772.
VA Clinical Assessment Reporting and Tracking (CART) Program | Digital Realty, 350 E Cermak Road, Main Building 7th Transport RM, Chicago, IL 60616.
| Evoque Data Centers, 11830 Webb Chapel Road, Suite 200, Dallas, TX 75234.
Consolidated Mail Outpatient Pharmacy (CMOP) Centralized Database System | Southwest CMOP, 3675 East Britannia Drive, Tucson, AZ 85706.
Converged Registries Solution (CRS) | Austin Information Technology Center, 1615 Woodward Street, Austin, TX 78772.
Cruetzfelet-Jakob Disease Lookback Dataset (CJDLD) | Cincinnati Veterans Affairs Medical Center, 3200 Vine Street, Cincinnati, OH 45220.
Defense and Veterans Eye Injury Registry (DVEIR) | Austin Information Technology Center, 1615 Woodward Street, Austin, TX 78772.
Dental Encounter System (DES) | Austin Information Technology Center, 1615 Woodward Street, Austin, TX 78772.
Eastern Pacemaker Surveillance Center Database | Washington, DC Veterans Affairs Medical Center, 50 Irving Street NW, Washington, DC 20422.
Emerging Pathogens Initiative (EPI) | Austin Information Technology Center, 1615 Woodward Street, Austin, TX 78772.
Federal Health Information Exchange (FHIE) | SunGard, 1500 Spring Garden Street, Philadelphia, PA 19130.
Financial Clinical Data Mart (FCDM) | Austin Information Technology Center, 1615 Woodward Street, Austin, TX 78772.
Former Prisoner of War Statistical Tracking System | Austin Information Technology Center, 1615 Woodward Street, Austin, TX 78772.
Functional Status and Outcome Database (FSOD) | Austin Information Technology Center, 1615 Woodward Street, Austin, TX 78772.
Home Based Primary Care (HBC) | Austin Information Technology Center, 1615 Woodward Street, Austin, TX 78772.
Homeless Operational Management &, Evaluation System (HOMES) | Austin Information Technology Center, 1615 Woodward Street, Austin, Texas 78772.
Homeless Veterans Registry | Austin Information Technology Center, 1615 Woodward Street, Austin, TX 78772.
Implant Tracking Registry | Austin Information Technology Center, 1615 Woodward Street, Austin, TX 78772.
IPEC Legionella Case Report Module | Austin Information Technology Center, 1615 Woodward Street, Austin, TX 78772.
Mammography Quality Standards (MQS) VA | Durham Veterans Affairs Medical Center, 508 Fulton Street, Durham, NC 27705.
Master Person Index—VHA | Austin Information Technology Center, 1615 Woodward Street, Austin, TX 78772.
Medical SAS File (MDP) (Medical District Planning (MEDIPRO)) | Austin Information Technology Center, 1615 Woodward Street, Austin, TX 78772.
Multiple Sclerosis Surveillance Request (MSSR) Registry | Austin Information Technology Center, 1615 Woodward Street, Austin, TX 78772.
National Center for Patient Safety Public Health System (NCPSPHS) | Palo Alto Veterans Affairs Medical Center, 3801 Miranda Avenue, Palo Alto, CA 94304.
National Mental Health Database System (NMHDS) | Veterans Affairs Medical Center, 7180 Highland Drive, Pittsburgh, PA 15206.
National Medical Information System (NMIS) | Austin Information Technology Center, 1615 Woodward Street, Austin, TX 78772.
National Survey of Veterans (NSV) | Austin Information Technology Center, 1615 Woodward Street, Austin, TX 78772.
Patient Assessment File (PAF) | Austin Information Technology Center, 1615 Woodward Street, Austin, TX 78772.
Pharmacy Benefits Management (PBM) | Edward Hines Junior Hospital Veterans Affairs Medical Center, 5000 Avenue, Hines, IL 60141.
Remote Order Entry System (ROES) | VA Denver Regional Office, 155 Van Gordon Street, Lakewood, CO 80228-1709.
Resident Assessment Instrument/Minimum Data Set (RAI/MDS) | Austin Information Technology Center, 1615 Woodward Street, Austin, TX 78772.
Traumatic Brain Injury (TBI) Registry | Austin Information Technology Center, 1615 Woodward Street, Austin, TX 78772.
VA National Clozapine Registry (NCCC) | Dallas Veterans Affairs Medical Center, 4500 South Lancaster Road, Dallas, TX 75216.
Veterans Affairs Surgical Quality Improvement Program (VASQIP) | VA Central Office (VACO), National Surgery Office (11SURG), 810 Vermont Avenue NW, Washington, DC 20420.
VA Vital Status File (VSF) | Austin Information Technology Center, 1615 Woodward Street, Austin, TX 78772.
Veterans Administration Central Cancer Registry (VACCR) | Washington DC Veterans Affairs Medical Center, 50 Irving Street NW, Washington, DC 20422.
Veterans Health Administration Support Service Center (VSSC) | Austin Information Technology Center, 1615 Woodward Street, Austin, TX 78772.
Veterans Integrated Registry Platform | Austin Information Technology Center, 1615 Woodward Street, Austin, TX 78772.
War Related Illness and Injury Study Center (WRIISC) Database | Palo Alto VA Medical Center, 3801 Miranda Avenue, Mail Code 151Y, Palo Alto, CA 94304.

[FR Doc. 2023-07638 Filed 4-11-23; 8:45 am]

BILLING CODE 8320-01-P